DEPARTMENT OF HEALTH AND HUMAN SERVICES

Health Resources and Services Administration

Notice of Supplemental Funding; Rural Health and Economic Development Analysis Program

AGENCY: Health Resources and Services Administration (HRSA), Department of Health and Human Services.

ACTION: Notice of supplemental funding.

SUMMARY: HRSA provided supplemental funds to the sole award recipient of the Rural Health and Economic Development Analysis Program to support a research project that quantifies the relationships between health care and economic factors in rural communities.

FOR FURTHER INFORMATION CONTACT: Karis Tyner, Federal Office of Rural Health Policy, HRSA, at ktyner@hrsa.gov and 240-645-5756.

SUPPLEMENTARY INFORMATION:

Intended Recipient of the Award: University of Kentucky.

Amount of Non-Competitive Award: One award for $175,000.

Project Period: September 1, 2022, through August 31, 2025.

Assistance Listing (CFDA) Number: 93.155.

Award Instrument: Cooperative Agreement Supplement for Research.

Authority: Section 711 of the Social Security Act (42 U.S.C. 912).

Table 1—Recipients and Award Amounts
Grant No. | Award recipient name | City, state | Award amount
U1ZRH33331 | University of Kentucky | Lexington, KY | $175,000

Justification: The University of Kentucky, the sole recipient of the Rural Health and Economic Development Analysis Program funding, possesses specialized experience in rural health care research and economic analysis that positions it to be the most qualified entity to perform this work. The funding allows the University of Kentucky to collect and analyze additional data on health care and economic impacts, building on the planned research project and providing more information to inform policy makers and other rural stakeholders. Its research may focus on emerging issues at the intersection of rural health care improvement and rural economic analysis.

Diana Espinosa,
Principal Deputy Administrator.

[FR Doc. 2024-27109 Filed 11-19-24; 8:45 am]

BILLING CODE 4165-15-P